ENVIRONMENTAL PROTECTION AGENCY

[FRL-8908-3]

Proposed CERCLA Settlement Agreement for Recovery of Past Response Costs Incurred at the Bueno Mill and Mine Site Located Adjacent to Jamestown in Boulder County, CO

AGENCY: Environmental Protection Agency (EPA).

ACTION: Notice and request for public comment.

SUMMARY: In accordance with the requirements of section 122(i) of the Comprehensive Environmental Response, Compensation, and Liability Act, as amended (“CERCLA”), 42 U.S.C. 9622(i), notice is hereby given of a proposed Settlement Agreement for Recovery of Past Response Costs (“Agreement”) under section 122(h)(1)of CERCLA, 42 U.S.C. 9622(h)(1), concerning the Bueno Mine and Mill Site located adjacent to Jamestown in Boulder County, Colorado. This Agreement, as embodied in a CERCLA section 122(h) Settlement Agreement for Recovery of Past Response Costs, is designed to resolve the liability at the Site for Ozark-Mahoning Company and its parents Delaware Chemicals Corporation and Arkema Inc. (“Settling Parties”) for past work and past response costs through covenants under sections 106 and 107 of CERCLA, 42 U.S.C. 9606 and 9607. The proposed Agreement requires the Settling Party to pay $1,321,619 to the EPA Hazardous Substances Superfund.

Opportunity for Comment: For thirty (30) days following the date of publication of this notice, the Agency will consider all comments received, and may modify or withdraw its consent to the Agreement if comments received disclose facts or considerations which indicate that either the Agreement is inappropriate, improper, or inadequate. The Agency's response to any comments received will be available for public inspection at the EPA Superfund Records Center, 1595 Wynkoop St., 3rd floor in Denver, Colorado.

DATES: Comments must be submitted on or before June 19, 2009.

ADDRESSES: The proposed Agreement and additional background information relating to the settlement are available for public inspection at the EPA Superfund Records Center, 1595 Wynkoop St., 3rd Floor, in Denver, Colorado. Comments and requests for a copy of the proposed Agreement should be addressed to William Ross (8ENF-RC), Technical Enforcement Program, U.S. Environmental Protection Agency, 1595 Wynkoop St., Denver, Colorado 80202-1129, and should reference the Bueno Mine and Mill Site, in Boulder County, Colorado and the Docket Number CERCLA-08-2009-0001.

FOR FURTHER INFORMATION CONTACT: William Ross, Enforcement Specialist/SEE (8ENF-RC), Technical Enforcement Program, U.S. Environmental Protection Agency, 1595 Wynkop St., Denver, Colorado 80202-1129, (303) 312-6208.

SUPPLEMENTARY INFORMATION: Regarding the Agreement under section 122(h)(1) of CERCLA, 42 U.S.C. 9622(h)(1): In accordance with section 122(i) of CERCLA, 42 U.S.C. 9622(i), notice is hereby given that the terms of the Agreement have been agreed to by the Settling Parties which will pay a total of $1,312,619 to the Hazardous Substance Superfund. This payment represents 100% of the past response costs attributable to the Settling Parties incurred by the United States through the effective date of the Agreement.

Dated: May 8, 2009.
Sharon L. Kersher,
Acting Assistant Regional Administrator, Office of Enforcement, Compliance, and Environmental Justice, Region 8.

[FR Doc. E9-11745 Filed 5-19-09; 8:45 am]

BILLING CODE 6560-50-P